DEPARTMENT OF ENERGY

Federal Energy Regulatory Commission

Combined Notice of Filings #1

Take notice that the Commission received the following electric corporate filings:

Docket Numbers: EC15-208-000.

Applicants: Consolidated Edison Company of New York, Inc.

Description: Section 203 Application of Consolidated Edison Company of New York, Inc.

Filed Date: 9/16/15.

Accession Number: 20150916-5155.

Comments Due: 5 p.m. ET 10/7/15.

Take notice that the Commission received the following exempt wholesale generator filings:

Docket Numbers: EG15-125-000.

Applicants: Colbeck's Corner, LLC.

Description: Notice of Self-Certification of Exempt Wholesale Generator Status of Colbeck's Corner, LLC.

Filed Date: 9/17/15.

Accession Number: 20150917-5024.

Comments Due: 5 p.m. ET 10/8/15.

Take notice that the Commission received the following electric rate filings:

Docket Numbers: ER10-1437-002.

Applicants: Tampa Electric Company.

Description: Third Supplement to June 30, 2014 Triennial Market Power Update of Tampa Electric Company.

Filed Date: 9/16/15.

Accession Number: 20150916-5150.

Comments Due: 5 p.m. ET 10/7/15.

Docket Numbers: ER15-2500-001.

Applicants: Southern California Edison Company.

Description: Tariff Amendment: Amended Distribution Service Agreement with Edom Hills to be effective 10/1/2015.

Filed Date: 9/17/15.

Accession Number: 20150917-5072.

Comments Due: 5 p.m. ET 10/8/15.

Docket Numbers: ER15-2657-000.

Applicants: Midcontinent Independent System Operator, Inc.

Description: § 205(d) Rate Filing: 2015-09-16_Order 1000 CTDS Enhancement Filing to be effective 11/16/2015.

Filed Date: 9/16/15.

Accession Number: 20150916-5137.

Comments Due: 5 p.m. ET 10/7/15.

Docket Numbers: ER15-2658-000.

Applicants: Midcontinent Independent System Operator, Inc.

Description: § 205(d) Rate Filing: 2015-09-16_Order 1000 (TOA) CTDS Enhancement Filing to be effective 11/15/2015.

Filed Date: 9/16/15.

Accession Number: 20150916-5139.

Comments Due: 5 p.m. ET 10/7/15.

Docket Numbers: ER15-2659-000.

Applicants: Southern California Edison Company.

Description: § 205(d) Rate Filing: Amended SGIA SEPV Palmdale East, LLC to be effective 11/17/2015.

Filed Date: 9/17/15.

Accession Number: 20150917-5002.

Comments Due: 5 p.m. ET 10/8/15.

Docket Numbers: ER15-2660-000.

Applicants: Midcontinent Independent System Operator, Inc.

Description: Annual Calculation of the Cost of New Entry value (“CONE”) for each Local Resource Zone (“LRZ”) in the MISO Region of Midcontinent Independent System Operator, Inc.

Filed Date: 9/16/15.

Accession Number: 20150916-5149.

Comments Due: 5 p.m. ET 10/7/15.

Docket Numbers: ER15-2661-000.

Applicants: PJM Interconnection, L.L.C.

Description: § 205(d) Rate Filing: Original WMPA SA No. 4259, Queue No. Z1-110 to be effective 7/22/2015.

Filed Date: 9/17/15.

Accession Number: 20150917-5070.

Comments Due: 5 p.m. ET 10/8/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2015.
Nathaniel J. Davis, Sr.,
Deputy Secretary.

[FR Doc. 2015-24135 Filed 9-22-15; 8:45 am]

BILLING CODE 6717-01-P